DEPARTMENT OF COMMERCE

Census Bureau

Proposed Information Collection; Comment Request; 2013 Current Population Survey Annual Social and Economic Supplement Content Test

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before September 4, 2012.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Brian O'Hara, Social and Economic Housing Statistics Division, U.S. Census Bureau, 301-763-3196 (or via the Internet at brian.j.ohara@census.gov).

SUPPLEMENTARY INFORMATION:

I. Abstract

The Current Population Survey (CPS) Annual Social and Economic Supplement (ASEC) is used to produce official estimates of income and poverty, and it serves as the most widely-cited source of estimates on health insurance and the uninsured. These statistics have far-ranging implications for policy and funding decisions. Alternative sets of questions on income and health insurance have been developed and are now slated for a large-scale field test to evaluate the questions and the estimates they generate.

With regard to income, the CPS ASEC was converted to computer assisted interviewing (CAI) in 1994. This conversion, essentially, took the questions and skip patterns of the paper questionnaire, and put them on a computer screen. Automated data collection methods allow for complicated skips, respondent-specific question wording, and carry-over of data from one interview to the next. The computerized questionnaire also permits the inclusion of several built-in editing features, including automatic checks for internal consistency and unlikely responses, and verification of answers. With these built-in editing features, errors can be caught and corrected during the interview itself. It has been more than 30 years since the last major redesign of the income questions of this questionnaire (1980), and the need to modernize this survey to take advantage of CAI technologies has become more and more apparent.

Regarding health insurance, the CPS ASEC health insurance questions have measurement error due to both the reference period and timing of data collection. Qualitative research has shown that some respondents do not focus on the calendar year reference period, but rather report on their current insurance status. Quantitative studies have shown that those with more recent coverage are more likely to report accurately than those with coverage in the distant past. A new set of integrated questions on both current and past calendar year status should produce more accurate estimates of past year coverage. This is because the current coverage status questions may serve as an anchor to elicit more accurate reports of past year coverage than the standard methodology.

In addition to making improvements to the core set of questions on health insurance, in 2014 the Patient Protection and Affordable Care Act (PPACA) is set to go into effect. One of the main features of the PPACA is the “Health Insurance Exchange.” These are joint federal-state partnerships designed to create a marketplace of private health insurance options for individuals and small businesses. While these Exchanges are still in development and states have broad flexibility in designing the programs, it is essential for the federal government to have a viable methodology in place when the PPACA goes into effect to measure Exchange participation, and to measure types of health coverage (in general) in the post-reform era.

Lastly, the point-in-time health insurance questions lend themselves to additional questions concerning whether the current employer offered the respondent health insurance coverage. Although this set of questions is new to the CPS ASEC, it has been in CPS production in the Contingent Worker Supplement (CWS). The CWS was fielded in February of 1995, 1997, 1999, 2001 and 2005.

The overarching purpose of the 2013 CPS ASEC Content Test is to evaluate the following:

• Customization of income questions to fit specific demographic groups

• Ask recipiency and amounts separately

• Use better targeted questions for certain income types that are currently not well reported

• Improve health insurance questions by using a new method of collection

• New content on a new way for people to get income-related subsidies for health insurance coverage

• New content on employer-provided health insurance

II. Method of Collection

The 2013 field test is expected to be conducted using a CATI instrument by Census Bureau interviewers located in three telephone interviewing facilities (in Hagerstown, Maryland; Jeffersonville, Indiana; and Tucson, Arizona).

III. Data

OMB Control Number: None.

Form Number: None.

Type of Review: Regular submission.

Affected Public: Individuals or households.

Estimated Number of Respondents: 15,000 households.

Estimated Time per Response: 40 minutes per household.

Estimated Total Annual Burden Hours: 10,000 hours.

Estimated Total Annual Cost: Except for their time, there is no cost to respondents.

Respondent Obligation: Voluntary.

Legal Authority: Section 182 of Title 13 of the United States Code.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 29, 2012.
Glenna Mickelson,
Management Analyst, Office of the Chief Information Officer.

[FR Doc. 2012-16389 Filed 7-3-12; 8:45 am]

BILLING CODE 3510-07-P